COMMODITY FUTURES TRADING COMMISSION

17 CFR Part 43

RIN 3038-AD08

Procedures To Establish Appropriate Minimum Block Sizes for Large Notional Off-Facility Swaps and Block Trades; Correction

AGENCY: Commodity Futures Trading Commission.

ACTION: Final rule; correction.

SUMMARY: The Commodity Futures Trading Commission is correcting a final rule that appeared in the Federal Register of May 31, 2013 (78 FR 32866). The final rule adopted regulations, under the Dodd-Frank Wall Street Reform and Consumer Protection Act, defining the criteria for grouping swaps into separate swap categories and establishing methodologies for setting appropriate minimum block sizes for each swap category. These corrections fix errors in certain contract descriptions, block sizes, and block units listed in Appendix F to the final rule.

DATES: Effective date: July 30, 2013.

FOR FURTHER INFORMATION CONTACT: John W. Dunfee, Assistant General Counsel, Office of the General Counsel, Commodity Futures Trading Commission, Three Lafayette Center, 1155 21st Street, NW., Washington, DC 20581; 202-418-5396; jdunfee@cftc.gov.

SUPPLEMENTARY INFORMATION: In FR Doc. 2013-12133 appearing on page 32866 in the Federal Register of Friday, May 31, 2013, the following correction is made:

Appendix F to Part 43—Initial Appropriate Minimum Block Sizes by Asset Class for Block Trades and Large Notional Off-Facility Swaps [Corrected]

1. On page 32942, in the third column, in Appendix F to Part 43—Initial Appropriate Minimum Block Sizes by Asset Class for Block Trades and Large Notional Off-Facility Swaps, correct Appendix F by removing all of the tables published on pages 32942 through 32944 and adding the following corrected tables in their place:

Currency group | Currencies
Super-Major Currencies | United States dollar (USD), European Union Euro Area euro (EUR), United Kingdom pound sterling (GBP), and Japan yen (JPY).
Major Currencies | Australia dollar (AUD), Switzerland franc (CHF), Canada dollar (CAD), Republic of South Africa rand (ZAR), Republic of Korea won (KRW), Kingdom of Sweden krona (SEK), New Zealand dollar (NZD), Kingdom of Norway krone (NOK), and Denmark krone (DKK).
Non-Major Currencies | All other currencies.

Interest Rate Swaps
Currency group | Tenor greater than | Tenor less than or equal to | 50% Notional (in millions)
Super-Major |  | 46 days | 6,400
Super-Major | 46 days | Three months (107 days) | 2,100
Super-Major | Three months (107 days) | Six months (198 days) | 1,200
Super-Major | Six months (198 days) | One year (381 days) | 1,100
Super-Major | One year (381 days) | Two years (746 days) | 460
Super-Major | Two years (746 days) | Five years (1,842 days) | 240
Super-Major | Five years (1,842 days) | Ten years (3,668 days) | 170
Super-Major | Ten years (3,668 days) | 30 years (10,973 days) | 120
Super-Major | 30 years (10,973 days) |  | 67
Major |  | 46 days | 2,200
Major | 46 days | Three months (107 days) | 580
Major | Three months (107 days) | Six months (198 days) | 440
Major | Six months (198 days) | One year (381 days) | 220
Major | One year (381 days) | Two years (746 days) | 130
Major | Two years (746 days) | Five years (1,842 days) | 88
Major | Five years (1,842 days) | Ten years (3,668 days) | 49
Major | Ten years (3,668 days) | 30 years (10,973 days) | 37
Major | 30 years (10,973 days) |  | 15
Non-Major |  | 46 days | 230
Non-Major | 46 days | Three months (107 days) | 230
Non-Major | Three months (107 days) | Six months (198 days) | 150
Non-Major | Six months (198 days) | One year (381 days) | 110
Non-Major | One year (381 days) | Two years (746 days) | 54
Non-Major | Two years (746 days) | Five years (1,842 days) | 27
Non-Major | Five years (1,842 days) | Ten years (3,668 days) | 15
Non-Major | Ten years (3,668 days) | 30 years (10,973 days) | 16
Non-Major | 30 years (10,973 days) |  | 15

Credit Swaps
Spread group (basis points) | Traded tenor greater than | Traded tenor less than or equal to | 50% Notional (in millions)
Less than or equal to 175 |  | Two years (746 days) | 320
Less than or equal to 175 | Two years (746 days) | Four years (1,477 days) | 200
Less than or equal to 175 | Four years (1,477 days) | Six years (2,207 days) | 110
Less than or equal to 175 | Six years (2,207 days) | Eight years and six months (3,120 days) | 110
Less than or equal to 175 | Eight years and six months (3,120 days) | Twelve years and six months (4,581 days) | 130
Less than or equal to 175 | Twelve years and six months (4,581 days) |  | 46
Greater than 175 and less than or equal to 350 |  | Two years (746 days) | 140
Greater than 175 and less than or equal to 350 | Two years (746 days) | Four years (1,477 days) | 82
Greater than 175 and less than or equal to 350 | Four years (1,477 days) | Six years (2,207 days) | 32
Greater than 175 and less than or equal to 350 | Six years (2,207 days) | Eight years and six months (3,120 days) | 20
Greater than 175 and less than or equal to 350 | Eight years and six months (3,120 days) | Twelve years and six months (4,581 days) | 26
Greater than 175 and less than or equal to 350 | Twelve years and six months (4,581 days) |  | 63
Greater than 350 |  | Two years (746 days) | 66
Greater than 350 | Two years (746 days) | Four years (1,477 days) | 41
Greater than 350 | Four years (1,477 days) | Six years (2,207 days) | 26
Greater than 350 | Six years (2,207 days) | Eight years and six months (3,120 days) | 13
Greater than 350 | Eight years and six months (3,120 days) | Twelve years and six months (4,581 days) | 13
Greater than 350 | Twelve years and six months (4,581 days) |  | 41

Foreign Exchange Swaps
|  | Super-major currencies: EUR (Euro) | Super-major currencies: GBP (British pound) | Super-major currencies: JPY (Japanese yen) | Super-major currencies: USD (U.S. dollar)
Super-major currencies | EUR |  | 6,250,000 | 6,250,000 | 18,750,000
| GBP | * 6,250,000 |  | 6,250,000 | 6,250,000
| JPY | * 6,250,000 | * 6,250,000 |  | 1,875,000,000
| USD | * 18,750,000 | * 6,250,000 | * 1,875,000,000 |
Major currencies | AUD | * 6,250,000 | 0 | 10,000,000 | 10,000,000
| CAD | * 6,250,000 | 0 | 10,000,000 | 10,000,000
| CHF | * 6,250,000 | * 6,250,000 | 12,500,000 | 12,500,000
| DKK | 0 | 0 | 0 | 0
| KRW | 0 | 0 | 0 | 6,250,000,000
| SEK | * 6,250,000 | 0 | 0 | 100,000,000
| NOK | * 6,250,000 | 0 | 0 | 100,000,000
| NZD | 0 | 0 | 0 | 5,000,000
| ZAR | 0 | 0 | 0 | 25,000,000
Non-major currencies | BRL | 0 | 0 | 0 | 5,000,000
| CZK | 200,000,000 | 0 | 0 | 200,000,000
| HUF | 1,500,000,000 | 0 | 0 | 1,500,000,000
| ILS | 0 | 0 | 0 | 50,000,000
| MXN | 0 | 0 | 0 | 50,000,000
| PLN | 25,000,000 | 0 | 0 | 25,000,000
| RMB | 50,000,000 | 0 | 50,000,000 | 50,000,000
| RUB | 0 | 0 | 0 | 125,000,000
| TRY | * 6,250,000 | 0 | 0 | * 10,000,000
All values that do not have an asterisk are denominated in the currency of the left hand side.
All values that have an asterisk (*) are denominated in the currency indicated on the top of the table.

Other Commodity Swaps
Related futures contract | Initial appropriate minimum block size | Units
AB NIT Basis (ICE) | 62,500 | MMBtu.
Brent Crude (ICE and NYMEX) | 25,000 | bbl.
Cheese (CME) | 400,000 | lbs.
Class III Milk (CME) | NO BLOCKS. |
Cocoa (ICE and NYSE LIFFE and NYMEX) | 1,000 | metric tons.
Coffee (ICE and NYMEX) | 3,750,000 | lbs.
Copper (COMEX) | 625,000 | lbs.
Corn (CBOT) | NO BLOCKS. | bushels.
Cotton No. 2 (ICE and NYMEX) | 5,000,000 | lbs.
Distillers' Dried Grain (CBOT) | 1,000 | short tons.
Dow Jones-UBS Commodity Index (CBOT) | 30,000 times index | dollars.
Ethanol (CBOT) | 290,000 | gallons.
Feeder Cattle (CME) | NO BLOCKS. |
Frost Index (CME) | 200,000 times index | euros.
Frozen Concentrated Orange Juice (ICE) | NO BLOCKS. |
Gold (COMEX and NYSE Liffe) | 2,500 | troy oz.
Goldman Sachs Commodity Index (GSCI), GSCI Excess Return Index (CME) | 5,000 times index | dollars.
Gulf Coast Sour Crude Oil (NYMEX) | 5,000 | bbl.
Hard Red Spring Wheat (MGEX) | NO BLOCKS. |
Hard Winter Wheat (KCBT) | NO BLOCKS. |
Henry Hub Natural Gas (NYMEX) | 500,000 | MMBtu.
HSC Basis (ICE and NYMEX) | 62,500 | MMBtu.
Hurricane Index (CME) | 20,000 times index | dollars.
Chicago Basis (ICE and NYMEX) | 62,500 | MMBtu.
Lean Hogs (CME) | NO BLOCKS. |
Light Sweet Crude Oil (NYMEX) | 50,000 | bbl.
Live Cattle (CME) | NO BLOCKS. |
Mid-Columbia Day-Ahead Off-Peak Fixed Price (ICE) | 625 | Mwh.
Mid-Columbia Day-Ahead Peak Fixed Price (ICE) | 4,000 | Mwh.
New York Harbor RBOB (Blendstock) Gasoline (NYMEX) | 1,050,000 | gallons.
New York Harbor No. 2 Heating Oil (NYMEX) | 1,050,000 | gallons.
NWP Rockies Basis (ICE and NYMEX) | 62,500 | MMBtu.
Oats (CBOT) | NO BLOCKS. |
Palladium (NYMEX) | 1,000 | troy oz.
PG&E Citygate Basis (ICE and NYMEX) | 62,500 | MMBtu.
PJM Western Hub Real Time Off-Peak Fixed Price (ICE) | 3,900 | Mwh.
PJM Western Hub Real Time Peak Fixed Price (ICE) | 8,000 | Mwh.
Platinum (NYMEX) | 500 | troy oz.
Rainfall Index (CME) | 10,000 times index | dollars.
Rough Rice (CBOT) | NO BLOCKS. |
Silver (COMEX and NYSE Liffe) | 125,000 | troy oz.
Snowfall Index (CME) | 10,000 times index | dollars.
Socal Border Basis (ICE and NYMEX) | 62,500 | MMBtu.
Soybean (CBOT) | NO BLOCKS. |
Soybean Meal (CBOT) | NO BLOCKS. |
Soybean Oil (CBOT) | NO BLOCKS. |
SP-15 Day-Ahead Peak Fixed Price (ICE) | 4,000 | Mwh.
SP-15 Day-Ahead Off-Peak Fixed Price (ICE) | 625 | Mwh.
Sugar #11 (ICE and NYMEX) | 5,000 | metric tons.
Sugar #16 (ICE) | NO BLOCKS. |
Temperature Index (CME) | 400 times index | currency units.
U.S. Dollar Cash Settled Crude Palm Oil (CME) | 250 | metric tons.
Waha Basis (ICE and NYMEX) | 62,500 | MMBtu.
Wheat (CBOT) | NO BLOCKS. |

Dated: July 10, 2013.
Christopher J. Kirkpatrick,
Deputy Secretary of the Commission.

[FR Doc. 2013-16938 Filed 7-15-13; 8:45 am]

BILLING CODE 6351-01-P